DEPARTMENT OF HEALTH AND HUMAN SERVICES

National Institutes of Health

National Institute on Aging; Amended Notice of Meeting

Notice is hereby given of a change in the meeting of the National Advisory Council on Aging, May 16, 2023, 02:00 p.m. to May 17, 2023, 02:30 p.m., National Institute on Aging, Gateway Building, 7201 Wisconsin Avenue, Bethesda, MD 20892 which was published in the Federal Register on December 28, 2022, 321142.

The meeting notice is amended to change the start time of the meeting from 10:00 a.m., to 9:00 a.m. on the second day May 17, 2023. The end time will also change from 2:30 p.m. to 1:30 p.m. on May 17, 2023. The meeting is Partially Closed to the public.

Dated: March 31, 2023.
Miguelina Perez,
Program Analyst, Office of Federal Advisory Committee Policy.

[FR Doc. 2023-07161 Filed 4-5-23; 8:45 am]

BILLING CODE 4140-01-P